Notice of January 29, 2003

Notice of Intention To Enter Into a Free Trade Agreement With Singapore

Pursuant to sections 2103(a) and 2105(a) of the Trade Act of 2002, I have notified the Congress of my intention to enter into a Free Trade Agreement with the Government of Singapore.

Pursuant to section 2105(a)(1) of that Act, this notice shall be published in the Federal Register.

B

THE WHITE HOUSE,

Washington, January 29, 2003.

[FR Doc. 03-2530

Filed 1-30-03; 12:18 pm]

Billing code 3190-01-M